NUCLEAR REGULATORY COMMISSION

Application for a License To Export Radioactive Waste

Pursuant to 10 CFR 110.70(b)(2) “Public notice of receipt of an application,” please take notice that the Nuclear Regulatory Commission has received the following request for an export license. Copies of the request can be accessed through the Public Electronic Reading Room (PERR) link http://www.nrc.gov/reading-rm/adams.html at the NRC home page.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the application for a license to export radioactive waste as defined in 10 CFR part 110 and noticed herein, the Commission does not evaluate the health, safety or environmental effects in the recipient nation of the material to be exported. The information concerning the application follows.

NRC Export License Application for Radioactive Waste
Name of applicant, date application, date received, application number, docket number | Material type | End use | Country of destination
Framatome, ANP, January 25, 2005 | 1.0 kilograms of U-235 contained in 20 kilograms uranium, enriched to 5.0% as a contaminant of up to 1,600 kilograms incinerator ash and non-combustible metals, as Class A radioactive waste in 12 barrels (55 gallon drums) | To be returned to Advanced Nuclear Fuels GmbH (ANF-GmbH) in Lingen, Germany | Germany.
February 1, 2005 XW009 11005535 |  | This material was previously authorized for export by NRC license XW006, which expired on December 31, 2004

For the Nuclear Regulatory Commission.
Dated this 4th day of April in Rockville, Maryland.
Janice Dunn Lee,
Director, Office of International Programs.

[FR Doc. 05-7142 Filed 4-8-05; 8:45 am]

BILLING CODE 7590-01-P